DEPARTMENT OF COMMERCE

National Telecommunications and Information Administration

Docket No. 071018612-7895-02

Privacy Act of 1974; System of Records

AGENCY: National Telecommunications and Information Administration (NTIA),Department of Commerce.

ACTION: Notice.

SUMMARY: The National Telecommunications and Information Administration (NTIA) publishes this notice to announce the effective date of a Privacy Act System of Records entitled COMMERCE/NTIA-1, Applications Related to Coupons for Digital-to-Analog Converter Boxes. NTIA is creating a new system of records for applications related to coupons for the Digital-to-Analog Converter Box program. Information will be collected from individuals under the authority of Title III of the Deficit Reduction Act of 2005, Pub. L. No. 109-171, 120 Stat. 4, 21 (Feb. 8, 2006) (hereinafter “the Act”) and pursuant to regulations published by NTIA in 47 C.F.R. § 301. This new system of records is necessary to identify those households that qualify for and receive coupons towards the purchase of a digital-to-analog converter box.

DATES: The system of records will be effective on January 2, 2008.

ADDRESSES: For a copy of the system of records please mail requests to Stacy Cheney, Attorney-Advisor, Office of the Chief Counsel, National Telecommunications and Information Administration, Room 4713, 1401 Constitution Avenue, N.W., Washington, DC 20231. A copy of the system of records is also available on NTIA's website at: http://www.ntia.doc.gov/ntiahome/frnotices/2007/SystemRecords_112007.pdf.

FOR FURTHER INFORMATION CONTACT: Stacy Cheney, Attorney-Advisor, Office of the Chief Counsel, National Telecommunications and Information Administration, Room 4713, 1401 Constitution Avenue, N.W., Washington, DC 20231.

SUPPLEMENTARY INFORMATION: On November 26, 2007, NTIA published in the Federal Register a notice requesting comments on a proposed Privacy Act System of Records entitled COMMERCE/NTIA-1, Applications Related to Coupons for Digital-to-Analog Converter Boxes. See, 72 Fed. Reg. 65,943 (Nov. 26, 2007). No comments were received in response to the request for comments. By this notice, NTIA is adopting the proposed system of records as final without changes effective on January 2, 2008.

Dated: December 27, 2007.
Brenda Dolan,
Freedom of Information/Privacy Act Officer, U.S. Department of Commerce.

[FR Doc. E7-25493 Filed 12-31-07; 8:45 am]

BILLING CODE 3510-60-S